DEPARTMENT OF THE INTERIOR

National Park Service

Notice of Inventory Completion: Denver Museum of Nature &Science, Denver, CO

AGENCY: National Park Service, Interior.

ACTION: Notice.

Notice is here given in accordance with the Native American Graves Protection and Repatriation Act (NAGPRA), 25 U.S.C. 3003, of the completion of an inventory of human remains in the possession of the Denver Museum of Nature & Science, Denver, CO. The human remains were removed from the Native Village of Kivalina, near Point Hope, AK.

This notice is published as part of the National Park Service's administrative responsibilities under NAGPRA, 25 U.S.C. 3003 (d)(3). The determinations within this notice are the sole responsibility of the museum, institution, or Federal agency that has control of the Native American human remains. The National Park Service is not responsible for the determinations within this notice.

A detailed assessment of the human remains was made by the Denver Museum of Nature & Science professional staff in consultation with the Native Village of Kivalina.

In 1921, human remains representing one individual were removed from the Native Village of Kivalina, near Point Hope, AK, by Dr. A.M. Bailey during a museum-sponsored biological field expedition to Alaska. According to Dr. Bailey's field notes, the human remains were recovered “off the ground surface in the village of Kivalina in the lee of Point Hope, Alaska.” No further information is recorded. The human remains were accessioned into the collection in 1921. No known individual was identified. No associated funerary objects are present.

Provenience information in museum records and consultation with the Native Village of Kivalina indicate that the human remains are those of a Native American who was an earlier inhabitant of the village.

Officials of the Denver Museum of Nature & Science have determined that, pursuant to 25 U.S.C. 3001, (9-10), the human remains listed above represent the physical remains of one individual of Native American ancestry. Officials of the Denver Museum of Nature & Science also have determined that, pursuant to 25 U.S.C. 3001 (2), there is a relationship of shared group identity that can be reasonably traced between the Native American human remains and the Native Village of Kivalina.

Representatives of any other Indian tribe that believes itself to be culturally affiliated with the human remains should contact Dr. Ella Maria Ray, NAGPRA Officer, Department of Anthropology, Denver Museum of Nature & Science, 2001 Colorado Boulevard, Denver, CO 80205, telephone (303) 370-6056, before July 7, 2004. Repatriation of the human remains to the Native Village of Kivalina may proceed after that date if no additional claimants come forward.

The Denver Museum of Nature & Science is responsible for notifying the Native Village of Kivalina that this notice has been published.

Dated: April 23, 2004.
John Robbins,
Assistant Director, Cultural Resources.

[FR Doc. 04-12660 Filed 6-4-04; 8:45 am]

BILLING CODE 4310-50-S